DEPARTMENT OF ENERGY

Western Area Power Administration

Loveland Area Projects and Western Area Colorado Missouri Balancing Authority—Rate Order No. WAPA-197

AGENCY: Western Area Power Administration, DOE.

ACTION: Notice of rate order concerning transmission, energy and generator imbalance, and losses formula rates for use under the Western Energy Imbalance Service (WEIS) Market.

SUMMARY: The formula rates for the Rocky Mountain Region (RMR) of the Western Area Power Administration (WAPA) to use under the WEIS Market (Provisional Formula Rates) have been confirmed, approved, and placed into effect on an interim basis. RMR has converted the existing rates for short-term sales for RMR to use under the WEIS Market to long-term formula rates. The existing formula rates (approved under the WAPA Administrator's short-term rate authority) expire on September 30, 2021. No changes were made to the existing formula rates under the rates for short-term sales under Rate Schedules L-NFJDT (joint dispatch transmission), L-AS4 (energy imbalance), L-AS7 (balancing authority real power losses), and L-AS9 (generator imbalance).

DATES: The Provisional Formula Rates under Rate Schedules L-NFJDT (joint dispatch transmission), L-AS4 (energy imbalance), L-AS7 (balancing authority real power losses), and L-AS9 (generator imbalance) are effective on the first day of the first full billing period beginning on or after October 1, 2021, and will remain in effect through September 30, 2024, pending confirmation and approval by the Federal Energy Regulatory Commission (FERC) on a final basis or until superseded.

FOR FURTHER INFORMATION CONTACT: Barton V. Barnhart, Regional Manager, Rocky Mountain Region, Western Area Power Administration, 5555 East Crossroads Boulevard, Loveland, CO 80538-8986, email: LAPtransadj@wapa.gov, or Sheila D. Cook, Rates Manager, Rocky Mountain Region, Western Area Power Administration, (970) 685-9562, email: scook@wapa.gov.

SUPPLEMENTARY INFORMATION: On March 9, 2017, FERC confirmed and approved Loveland Area Projects (LAP) transmission and the LAP, Western Area Colorado Missouri Balancing Authority (WACM), and the Colorado River Storage Project (CRSP) ancillary services formula rates under Rate Schedules L-NT1 (network), L-FPT1 (firm point-to-point), L-NFPT1 (non-firm point-to-point), L-UU1 (unreserved use), L-AS1 (scheduling and dispatch), L-AS2 (reactive supply and voltage control (VAR) support), L-AS3 (regulation), L-AS4 (energy imbalance), L-AS5 (spinning reserves), L-AS6 (supplemental reserves), L-AS7 (transmission losses), L-AS9 (generator imbalance), and L-M1 (sales of surplus products) under Rate Order No. WAPA-174 on a final basis through September 30, 2021.¹ Under Rate Order No. WAPA-179, Rate Schedule L-M1 was superseded by Rate Schedule L-M2.² On December 29, 2020, WAPA's Administrator approved rates for short-term sales for RMR to use under the WEIS Market, which superseded the previously approved Rate Schedules L-AS4 (energy imbalance), L-AS7 (transmission losses), and L-AS9 (generator imbalance) and which created a new Rate Schedule, L-NFJDT (joint dispatch transmission), for the 8-month period of February 1, 2021, through September 30, 2021.³

¹ Order Confirming and Approving Rate Schedules on a Final Basis, FERC Docket Nos. EF16-5-000 and EF16-5-001, 158 FERC ¶ 62,181 (2017).

² Order Confirming and Approving Rate Schedules on a Final Basis, FERC Docket No. EF18-3-000, 163 FERC ¶ 62,115 (2018).

³ See “Short-Term Rate Memo—RMR WEIS—Approved December 29, 2020” at https://www.wapa.gov/regions/RM/rates/Pages/2021-Rates-for-Short-Term-Sales.aspx.

WAPA published a Federal Register notice (Proposed FRN) on April 21, 2021 (86 FR 20688), proposing to convert the rates for short-term sales for RMR to use under the WEIS Market to new long-term formula rates for use October 1, 2021, through September 30, 2024. RMR proposed that no changes be made to the existing formula rates under the rates for short-term sales under Rate Schedules L-NFJDT (joint dispatch transmission), L-AS4 (energy imbalance), L-AS7 (balancing authority real power losses), and L-AS9 (generator imbalance). The Proposed FRN also initiated a 30-day public consultation and comment period.

Under a concurrent but separate rate adjustment process for this same 3-year period, October 1, 2021, through September 30, 2024, WAPA, with Rate Order No. WAPA-196, is extending the existing LAP transmission and the LAP, WACM, and CRSP ancillary services formula rates under Rate Schedules L-NT1 (network), L-FPT1 (firm point-to-point), L-NFPT1 (non-firm point-to-point), L-UU1, (unreserved use), L-AS1 (scheduling and dispatch), L-AS2 (VAR support), L-AS3 (regulation), L-AS5 (spinning reserves), and L-AS6 (supplemental reserves).

The rate schedules herein contain formula-based charges and/or fees which will be calculated to incorporate the most recent financial, load, and non-participant entity information, as applicable. The financial data included in the RMR Administrative Fee will be updated on an annual basis, effective October 1 of each fiscal year. The Net Energy Load (NEL) and non-participant entity information, which is used to determine the allocation of the administrative costs, will also be updated on an annual basis, effective October 1 of each fiscal year; however, additional updates are possible throughout the fiscal year as changes to the embedded load and non-participating entities within the WACM Balancing Authority Area (BAA) occur (i.e., non-participating entities leave the BAA or become Market Participants (MP); existing MPs become non-participants; new non-participating entities enter BAA; etc.). When changes such as these occur, the proportional shares of NEL and the minimum fee amounts used to allocate the administrative costs must be updated to ensure appropriate distribution and cost recovery. These updates could result in changes to the monthly amounts the non-participating entities are charged.

Legal Authority

By Delegation Order No. 00-037.00B, effective November 19, 2016, the Secretary of Energy delegated: (1) The authority to develop power and transmission rates to the WAPA Administrator; (2) the authority to confirm, approve, and place such rates into effect on an interim basis to the Deputy Secretary of Energy; and (3) the authority to confirm, approve on a final basis, remand, or disapprove such rates to FERC. By Delegation Order No. S1-DEL-S4-2021, effective February 25, 2021, the Acting Secretary of Energy also delegated the authority to confirm, approve, and place such rates into effect on an interim basis to the Under Secretary for Science (and Energy). By Redelegation Order No. S4-DEL-OE1-2021, effective March 25, 2021, the Acting Under Secretary for Science (and Energy) redelegated the authority to confirm, approve, and place such rates into effect on an interim basis to the Assistant Secretary for Electricity. By Redelegation Order No. 00-002.10-05, effective July 8, 2020, the Assistant Secretary for Electricity further delegated the authority to confirm, approve, and place such rates into effect on an interim basis to WAPA's Administrator. This redelegation order, despite predating the February 2021 and March 2021 delegations, remains valid. This rate action is issued under Redelegation Order No. 00-002.10-05 and Department of Energy (DOE) procedures for public participation in rate adjustments as set forth at 10 CFR part 903.⁴

⁴ 50 FR 37835 (Sept. 18, 1985) and 84 FR 5347 (Feb. 21, 2019).

Following review of RMR's proposal, I hereby confirm, approve, and place Rate Order No. WAPA-197 into effect on an interim basis. This provides formula rates for transmission, energy and generator imbalance, and losses for use under the WEIS Market. WAPA will submit Rate Order No. WAPA-197 to FERC for confirmation and approval on a final basis.

Department of Energy

Administrator, Western Area Power Administration

In the Matter of: Western Area Power Administration, Rocky Mountain Region, Rate Adjustment for Transmission, Energy and Generator Imbalance, and Losses Formula Rates.

Rate Order No. WAPA-197

Order Confirming, Approving, and Placing Formula Rates for the Loveland Area Projects and the Western Area Colorado Missouri Balancing Authority Into Effect on an Interim Basis

The formula rates in Rate Order No. WAPA-197 are established following section 302 of the Department of Energy (DOE) Organization Act (42 U.S.C. 7152).⁵

⁵ This Act transferred to, and vested in, the Secretary of Energy the power marketing functions of the Secretary of the Department of the Interior and the Bureau of Reclamation (Reclamation) under the Reclamation Act of 1902 (ch. 1093, 32 Stat. 388), as amended and supplemented by subsequent laws, particularly section 9(c) of the Reclamation Project Act of 1939 (43 U.S.C. 485h(c)) and section 5 of the Flood Control Act of 1944 (16 U.S.C. 825s); and other acts that specifically apply to the projects involved.

By Delegation Order No. 00-037.00B, effective November 19, 2016, the Secretary of Energy delegated: (1) The authority to develop power and transmission rates to the Western Area Power Administration's (WAPA) Administrator; (2) the authority to confirm, approve, and place such rates into effect on an interim basis to the Deputy Secretary of Energy; and (3) the authority to confirm, approve on a final basis, remand, or disapprove such rates to the Federal Energy Regulatory Commission (FERC). By Delegation Order No. S1-DEL-S4-2021, effective February 25, 2021, the Acting Secretary of Energy also delegated the authority to confirm, approve, and place such rates into effect on an interim basis to the Under Secretary for Science (and Energy). By Redelegation Order No. S4-DEL-OE1-2021, effective March 25, 2021, the Acting Under Secretary for Science (and Energy) redelegated the authority to confirm, approve, and place such rates into effect on an interim basis to the Assistant Secretary for Electricity. By Redelegation Order No. 00-002.10-05, effective July 8, 2020, the Assistant Secretary for Electricity further delegated the authority to confirm, approve, and place such rates into effect on an interim basis to WAPA's Administrator. This redelegation order, despite predating the February 2021 and March 2021 delegations, remains valid. This rate action is issued under the Redelegation Order No. 00-002.10-05 and DOE procedures for public participation in rate adjustments as set forth at 10 CFR part 903.⁶

⁶ 50 FR 37835 (Sept. 18, 1985) and 84 FR 5347 (Feb. 21, 2019).

Acronyms, Terms, and Definitions

As used in this Rate Order, the following acronyms, terms, and definitions apply:

$/MWh: Dollars per megawatt hour.

AGE: Administrative & General Expense. Costs not directly chargeable to a specific project including administrative personnel, general supervision, indirect materials and supplies, etc.

Balancing Authority: The responsible entity within the Western Energy Imbalance System Market that integrates resource plans ahead of time, maintains load-interchange-generation balance within a Balancing Authority Area (BAA), and supports interconnection frequency in real time.

Balancing Authority Area: The collection of generation, transmission, and loads within the metered boundaries of the Balancing Authority. The Balancing Authority maintains load-resource balance within this area.

Business Practices: Documents that provide requirements for services and clarifies various aspects of the services offered.

Customer Rate Brochure: Document that further explains the rate methodologies under Rate Order No. WAPA-197.

FY: Fiscal year; October 1 to September 30.

Market Participant: An entity that generates, transmits, distributes, purchases, or sells electricity in the WEIS Market pursuant to the WEIS Tariff.

Net Energy for Load (NEL): Net generation on or interconnected to the WEIS Market Footprint (as defined in the WEIS Tariff) plus energy received from others less energy delivered to others through interchange and is measured in MWh/yr. It includes system losses but excludes energy required for storage of energy at energy storage facilities.

NEPA: National Environmental Policy Act of 1969, as amended.

Non-Participating Entity: An entity with load and/or resources embedded within the WACM Balancing Authority Area who chooses not to contract directly with Southwest Power Pool (SPP).

OATI: Open Access Transmission International, Inc. The software company that operates the Open Access Same-Time Information System (OASIS).

Provisional Formula Rates: Formula rates confirmed, approved, and placed into effect on an interim basis by the Secretary or his/her designee.

Western Energy Imbalance Service: The service defined in Schedule 1 of the WEIS Tariff for the WEIS Market Footprint.

WEIS Market: The market for imbalance energy administered by SPP in the Western Interconnection.

Effective Date

The Provisional Formula Rate Schedules L-NFJDT (joint dispatch transmission), L-AS4 (energy imbalance), L-AS7 (balancing authority real power losses), and L-AS9 (generator imbalance) will take effect on the first day of the first full billing period beginning on or after October 1, 2021, and will remain in effect through September 30, 2024, pending approval by FERC on a final basis or until superseded.

Public Notice and Comment

The Rocky Mountain Region (RMR) followed the Procedures for Public Participation in Power and Transmission Rate Adjustments and Extensions, 10 CFR part 903, in developing these formula rates. RMR took the following steps to involve interested parties in the rate process:

1. On April 21, 2021, a Federal Register notice (86 FR 20688) (Proposal FRN) announced the proposed formula rates and launched a 30-day public consultation and comment period.

2. On April 21, 2021, RMR notified transmission and ancillary service customers and interested parties of the proposed rates and provided a copy of the published Proposal FRN.

3. RMR provided a website that contains all dates, customer letters, presentations, FRNs, Customer Rate Brochure, and other information about this rate process. The website is located at: https://www.wapa.gov/regions/RM/rates/Pages/2021-Long-Term-Rates---WEIS-Market.aspx.

4. During the 30-day consultation and comment period, which ended on May 21, 2021, RMR received one written comment. The comments and RMR's responses are addressed below. All comments have been considered in preparation of this Rate Order.

Written comments were received from the following organization:

Colorado River Energy Distributors Association, Arizona.

Transmission, Energy and Generator Imbalance, and Losses

RMR converted its rates for short-term sales for use under the WEIS Market to new long-term formula rates. No changes were made to the existing rates. The formula rates are each designed to recover the annual costs of providing the services, as applicable, on an annual basis effective October 1 of each fiscal year.

For further details and explanations regarding these services, please see the final version of the Customer Rate Brochure, dated August 2021, located at: https://www.wapa.gov/regions/RM/rates/Pages/2021-Long-Term-Rates-WEIS-Market.aspx.

Comments

The comments expressed have been paraphrased, where appropriate, without compromising the meaning of the comments.

A. Comment: A customer asked why environmental compliance is uncertain for some of the proposal FRNs but WAPA has determined a Categorical Exclusion for others.

Response: When new/revised rates are being implemented, WAPA's Environmental Office reviews the reasons for the rate action and decides whether the rate action can be excluded from NEPA review. Typically, WAPA's rate actions are excluded. In the case of rate extensions, that determination was previously made when the rate was originally implemented.

B. Comment: A customer asked several questions related to RMR's prior process to implement rates for short-term sales.

Response: RMR appreciates the customer's feedback; however, these questions are outside the scope of this rate process. For information pertaining to the rates for short-term sales, please refer to LAP's Rates for Short-Term Sales web page located at https://www.wapa.gov/regions/RM/rates/Pages/2021-Rates-for-Short-Term-Sales.aspx with questions and answers provided in December 2020.

C. Comment: A customer asked for verification that no changes are being made to the losses rate.

Response: Yes, that is an accurate statement; no changes are being made to the existing formula rate for losses.

D. Comment: A customer provided editorial suggestions for the Customer Rate Brochure.

Response: RMR appreciates the customer's feedback. RMR has made edits to the final version of the Customer Rate Brochure to coincide with the suggestions.

E. Comment: A customer thanked RMR for providing additional administrative fee information.

Response: RMR appreciates the customer's feedback.

F. Comment: A customer recommended that various program managers track actual labor costs, versus using high-level assessments, when developing the RMR Administrative Fee.

Response: RMR appreciates the recommendation to track actual labor costs, but due to the nature of the work being performed by various functional groups, RMR has determined that it is not practical to ask staff to track their time to this level of detail. As such, RMR is using the higher-level assessments to determine the RMR Administrative Fee. Other administrative fees and charges RMR calculates are treated in a similar manner.

G. Comment: A customer requested the budget codes associated with each program area identified in the Customer Rate Brochure Table 2.

Response: The budget codes for each division are identified in Table 2 as follows:

1. Reliability—RRCPM-WMA

2. Operations Engineering—PSOSM

3. Operations Support—PSOSM

4. Settlements—BILLM

5. Information Technology—SCDSM

6. Transmission Services—TSVSM

7. Rates—MRKTM

8. Contracts—MRKTM

9. Finance—AAGEA

H. Comment: A customer asked on what basis the one-time and annual assessments of OATI, building, and other miscellaneous costs, are determined.

Response: The OATI software costs are based on the contracted option year, which correlates with the fiscal year used for the RMR Administrative Fee update. RMR only includes the cost of the specific OATI software modules that pertain to WEIS for the non-participating entities.

The building and other miscellaneous costs included in the annual RMR Administrative Fee correlate with the most current fiscal year data available. These costs are allocated to this fee based on the percentage of full-time equivalent (FTE) hours allocated to the RMR Administrative Fee.

I. Comment: A customer asked if Administrative and General Expense (AGE) was applied to the RMR Administrative Fee.

Response: Yes, AGE is included in the RMR Administrative Fee.

J. Comment: A customer asked why there could be “out-of-cycle” updates to the RMR Administrative Fee.

Response: The Net Energy Load (NEL) and non-participant entity information, which is used to determine the allocation of the administrative costs, will be updated on an annual basis, effective October 1 of each fiscal year; however, additional (out-of-cycle) updates are possible throughout the fiscal year as changes to the embedded load and non-participating entities within the WACM BAA occur (i.e., non-participating entities leave the BAA or become Market Participants (MP); existing MPs become non-participants; new non-participating entities enter WACM BAA; etc.). When changes such as these occur, the proportional shares of NEL and the minimum fee amounts used to allocate the administrative costs must be updated to ensure appropriate distribution and cost recovery. These updates could result in changes to the monthly amounts the non-participating entities are charged.

K. Comment: A customer asked for clarification of when the RMR Administrative Fee is updated and asked if text could be added indicating periodicity of updates to the RMR Administrative Fee.

Response: As explained in the response to Comment J regarding out-of-cycle changes, when changes such as these occur, the proportional shares of NEL and the minimum fee amounts used to allocate the administrative costs must be updated to ensure proper distribution and cost recovery. These updates could result in changes to the monthly amounts the non-participating entities are charged. RMR has added these details to the Customer Rate Brochure. Please see the final version of the Customer Rate Brochure, dated August 2021, located at: https://www.wapa.gov/regions/RM/rates/Pages/2021-Long-Term-Rates---WEIS-Market.aspx.

Certification of Rates

I certified that the Provisional Formula Rates for RMR under Rate Schedules L-NFJDT (joint dispatch transmission), L-AS4 (energy imbalance), L-AS7 (balancing authority real power losses), and L-AS9 (generator imbalance) are the lowest possible rates, consistent with sound business principles. The Provisional Formula Rates were developed following administrative policies and applicable laws.

Availability of Information

Information about this rate adjustment, including the Customer Rate Brochure, comments, letters, memorandums, and other supporting materials that were used to develop the Provisional Formula Rates, is available for inspection and copying at the Rocky Mountain Regional Office, 5555 East Crossroads Boulevard, Loveland, CO. Many of these documents are also available on WAPA's website at https://www.wapa.gov/regions/RM/rates/Pages/2021-Long-Term-Rates---WEIS-Market.aspx.

Ratemaking Procedure Requirements

Environmental Compliance

WAPA has determined that this action fits within the following categorical exclusions listed in appendix B to subpart D of 10 CFR 1021.410: B4.3 (Electric power marketing rate changes) and B4.4 (Power marketing services and activities). Categorically excluded projects and activities do not require preparation of either an environmental impact statement or an environmental assessment.⁷ Specifically, WAPA has determined that this rulemaking is consistent with activities identified in part B4, Categorical Exclusions Applicable to Specific Agency Actions (see 10 CFR part 1021, appendix B to subpart D, part B4). A copy of the categorical exclusion determination is available on WAPA-RMR's website at: https://www.wapa.gov/regions/RM/environment/Pages/CX2021.aspx. Look for the file entitled, “2021-088 Rate Change Categorical Exclusion Determination-WAPA197-.08052021.”

⁷ The determination was done in compliance with NEPA (42 U.S.C. 4321-4347); the Council on Environmental Quality Regulations for implementing NEPA (40 CFR parts 1500-1508); and DOE NEPA Implementing Procedures and Guidelines (10 CFR part 1021).

Determination Under Executive Order 12866

WAPA has an exemption from centralized regulatory review under Executive Order 12866; accordingly, no clearance of this notice by the Office of Management and Budget is required.

Submission to the Federal Energy Regulatory Commission

The Provisional Formula Rates herein confirmed, approved, and placed into effect on an interim basis, together with supporting documents, will be submitted to FERC for confirmation and final approval.

Order

In view of the above, and under the authority delegated to me, I hereby confirm, approve, and place into effect, on an interim basis, Rate Order No. WAPA-197. The rates will remain in effect on an interim basis until: (1) FERC confirms and approves them on a final basis; (2) subsequent rates are confirmed and approved; or (3) such rates are superseded.

Signing Authority

This document of the Department of Energy was signed on August 24, 2021, by Tracey A. LeBeau, Interim Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 25, 2021.
Treena V. Garrett,
Federal Register Liaison Officer, U.S. Department of Energy.

Rate Schedule L-NFJDT

SCHEDULE 8R to OATT Attachment

(Supersedes Rate Schedule L-NFJDT Dated February 1, 2021, Through September 30, 2021)

United States Department of Energy

Western Area Power Administration

Rocky Mountain Region

Loveland Area Projects

Joint Dispatch Transmission Service

(Approved Under Rate Order No. WAPA-197)

Effective

The first day of the first full billing period beginning on or after October 1, 2021, and extending through September 30, 2024, or until superseded by another rate schedule, whichever occurs earlier.

Applicable

This rate schedule applies to the Loveland Area Projects (LAPT) as the Transmission Service Provider (TSP) when the Rocky Mountain Region is participating in the Western Energy Imbalance Service (WEIS) Market. The Joint Dispatch Transmission Service (JDTS) Customer shall compensate the LAPT TSP for JDTS commensurate with the receipt or delivery of energy dispatched for the JDTS Customer pursuant to the WEIS Tariff under the formula rate described herein.

Formula Rate

Hourly delivery:

On-Peak Hours: The on-peak charge $0.00/MWh

Off-Peak Hours: The off-peak charge $0.00/MWh

Rate Schedule L-AS4

SCHEDULE 4R to OATT ATTACHMENT R

(Supersedes Rate Schedule L-AS4 Dated February 1, 2021, Through September 30, 2021)

United States Department of Energy

Western Area Power Administration

Rocky Mountain Region

Loveland Area Projects

Western Area Colorado Missouri Balancing Authority

Energy Imbalance Service

(Approved Under Rate Order No. WAPA-197)

Effective

The first day of the first full billing period beginning on or after October 1, 2021, and extending through September 30, 2024, or until superseded by another rate schedule, whichever occurs earlier.

Applicable

This rate schedule applies to the Western Area Colorado Missouri Balancing Authority (WACM) as the Balancing Authority Area (BAA) operator and to Loveland Area Projects (LAPT) as the Transmission Service Provider (TSP) when the Rocky Mountain Region (RMR) is participating in the Western Energy Imbalance Service (WEIS) Market and the WEIS Market is providing such ancillary service.

Within the BAA(s) in the WEIS Market Footprint, Energy Imbalance Service is provided when a difference occurs between the expected and the actual delivery of energy within such BAA(s) over a Dispatch Interval. All loads in the WEIS Market will be subject to settlement related to Energy Imbalance Service in the WEIS Market. Southwest Power Pool, Inc. (SPP), as the WEIS Market administrator, will obtain and provide this service under the WEIS Market and will calculate and bill applicable charges and credits.

As a participating balancing authority in the WEIS Market Footprint, WACM is required to register loads and resources for non-participating entities within the WACM BAA. Such entities must enter into separate agreements with WACM which will specify the terms of the Energy Imbalance Service contracted through the WEIS Market.

The LAPT TSP offers this service when the transmission service is used to serve load within the WACM BAA and the Transmission Customers must either purchase this service from the LAPT TSP or make alternative arrangements with WACM to satisfy their Energy Imbalance Service obligations.

Formula Rate

Charges shall reflect the pass-through of all applicable charges/credits associated with the WEIS Tariff assessed to RMR for embedded load in the WACM BAA of such entity that does not make adequate alternate arrangements in the WEIS Market to satisfy its Energy Imbalance Service obligation. RMR will also charge an administrative fee to cover RMR's cost of administering this service on behalf of such entities.

The WEIS charges/credits attributed to specific settlement location(s) (as defined in the WEIS Tariff) will be passed directly through to the applicable asset owners (as defined in the WEIS Tariff) at those settlement location(s). Other WEIS charges/credits, i.e., WEIS Administration costs, will be allocated based on each entity's proportional share of Net Energy for Load (NEL) (or as otherwise determined by the WEIS administrator).

RMR's Administrative Fee will be allocated to the non-participating entities using the higher of either RMR's calculated minimum fee or the entity's proportional share of the non-participating entities' NEL.

Rate Schedule L-AS9

SCHEDULE 9R to OATT ATTACHMENT R

(Supersedes Rate Schedule L-AS9 Dated February 1, 2021, Through September 30, 2021)

United States Department of Energy

Western Area Power Administration

Rocky Mountain Region

Loveland Area Projects

Western Area Colorado Missouri Balancing Authority

Generator Imbalance Service

(Approved Under Rate Order No. WAPA-197)

Effective

The first day of the first full billing period beginning on or after October 1, 2021, and extending through September 30, 2024, or until superseded by another rate schedule, whichever occurs earlier.

Applicable

This rate schedule applies to the Western Area Colorado Missouri Balancing Authority (WACM) as the Balancing Authority Area (BAA) operator and to Loveland Area Projects (LAPT) as the Transmission Service Provider (TSP) when the Rocky Mountain Region (RMR) is participating in the Western Energy Imbalance Service (WEIS) Market and the WEIS Market is providing such ancillary service.

Within the BAA(s) in the WEIS Market Footprint, Generator Imbalance Service is provided when a difference occurs between the expected and the actual delivery of energy within such BAA(s) over a Dispatch Interval. All resources in the WEIS Market will be subject to settlement related to Generator Imbalance Service in the WEIS Market. Southwest Power Pool, Inc. (SPP), as the WEIS Market administrator, will obtain and provide this service under the WEIS Market and will calculate and bill applicable charges and credits.

As a participating balancing authority in the WEIS Market Footprint, WACM is required to register loads and resources for non-participating entities within the WACM BAA. Such entities must enter into separate agreements with WACM which will specify the terms of the Generator Imbalance Service contracted through the WEIS Market.

The LAPT TSP offers this service, to the extent it is physically feasible to do so from its resources or from resources available to it, when Transmission Service is used to deliver energy from a generator located within the WACM BAA and the Transmission Customers must either purchase this service from the LAPT TSP or make alternative arrangements with WACM to satisfy their Generator Imbalance Service obligations.

Formula Rate

Charges shall reflect the pass-through of all applicable charges/credits associated with the WEIS Tariff assessed to RMR for embedded resources in the WACM BAA of such entity that does not make adequate alternate arrangements in the WEIS Market to satisfy its Generator Imbalance Service obligation. RMR will also charge an administrative fee to cover RMR's cost of administering this service on behalf of such entities.

The WEIS charges/credits attributed to specific settlement location(s) (as defined in the WEIS Tariff) will be passed directly through to the applicable asset owners (as defined in the WEIS Tariff) at those settlement location(s).

RMR's Administrative Fee will be allocated using the higher of either RMR's calculated minimum fee or the entity's proportional share of the non-participating entities' Net Energy for Load (NEL).

Rate Schedule L-AS7

(Supersedes Rate Schedule L-AS7 Dated February 1, 2021, Through September 30, 2021)

United States Department of Energy

Western Area Power Administration

Rocky Mountain Region

Western Area Colorado Missouri Balancing Authority

Balancing Authority Real Power Losses Service

(Approved Under Rate Order No. WAPA-197)

Effective

The first day of the first full billing period beginning on or after October 1, 2021, and extending through September 30, 2024, or until superseded by another rate schedule, whichever occurs earlier.

Applicable

This rate schedule applies to the Western Area Colorado Missouri Balancing Authority (WACM) as the Balancing Authority Area (BAA) operator when the Rocky Mountain Region is participating in the Western Energy Imbalance Service (WEIS) Market. Balancing Authority (BA) Real Power Losses Service is needed to account for the energy loss of the transmission systems within the BAA; to which the BAA operator must account for and be compensated where applicable. BA Real Power Losses are applicable for all real-time and prescheduled transactions on transmission facilities inside the WACM BAA.

In accordance with WACM's Business Practices, the BA Real Power Losses obligation falls (1) to load inside the WACM BAA, (2) to the last Transmission Service Provider (TSP) inside the WACM BAA listed on the applicable import, export, or wheeled-through point-to-point transmission service schedule, or (3) to the TSP which any dynamically transferred load and generation is connected to. This prevents duplicate assessment of the real power losses for schedules which involve more than one TSP inside the WACM BAA.

Formula Rate

WACM's BA Real Power Loss Factor Percentage is posted in WACM's “Ancillary Services and Losses” Business Practices which is posted on the Loveland Area Projects Transmission (LAPT) Open Access Same-Time Information System website.

Entities with load in the WACM BAA are required to submit balanced load forecasts and actual meter data with real power losses included.

Financial settlement for applicable point-to-point transactions and for load and generation which have been dynamically transferred out of WACM BAA into another BAA, as detailed in WACM's “Ancillary Services and Losses” Business Practices, will be calculated using WACM's then current BA Real Power Loss Factor Percentage and a charge assessed based on the WEIS Market's hourly locational marginal price (LMP) for the LAP settlement location.

[FR Doc. 2021-18650 Filed 8-30-21; 8:45 am]

BILLING CODE 6450-01-P